DEPARTMENT OF COMMERCE

National Oceanic and Atmospheric Administration

[I.D. 122104D]

Mid-Atlantic Fishery Management Council (MAFMC); Meeting; Correction

AGENCY: National Marine Fisheries Service (NMFS), National Oceanic and Atmospheric Administration (NOAA), Commerce.

ACTION: Notice of public meeting; correction.

SUMMARY: The Trawl Survey Advisory Panel, composed of representatives from the Northeast Fisheries Science Center (NEFSC), the Mid-Atlantic Fishery Management Council (MAFMC), the New England Fishery Management Council (NEFMC), and several independent scientific researchers, will hold a public meeting.

DATES: January 26, 2005, from noon to 5 p.m. and January 27, 2005, from 9 a.m. to 4 p.m.

ADDRESSES: The meeting will be held at the Brookshire Suites (Inner Harbor), 120 E. Lombard Street, Baltimore, MD, telephone 410-625-1300.

Council address: Mid-Atlantic Fishery Management Council, 300 S. New Street, Room 2115, Dover, DE 19904.

FOR FURTHER INFORMATION CONTACT: Daniel T. Furlong, Executive Director, Mid-Atlantic Fishery Management Council; 300 S. New Street, Room 2115, Dover, DE 19904, telephone 302-674-2331, ext. 19.

SUPPLEMENTARY INFORMATION:

Correction

In the Mid-Atlantic Fishery Management Council notice published in the Federal Register on December 28, 2004, at 69 FR 77730, the hotel address has been corrected as set out in the ADDRESSES section of this notice. No other information has been changed.

Special Accommodations

This meeting is physically accessible to people with disabilities. Requests for sign language interpretation or other auxiliary aids should be directed to Debbie Donnangelo at the Mid-Atlantic Council Office (see ADDRESSES) at least five days prior to the meeting date.

Dated: January 10, 2005.
Alan D. Risenhoover,
Acting Director, Office of Sustainable Fisheries, National Marine Fisheries Service.

[FR Doc. E5-120 Filed 1-12-05; 8:45 am]

BILLING CODE 3510-22-S